DEPARTMENT OF COMMERCE

National Oceanic and Atmospheric Administration

50 CFR Part 679

[Docket No. 161020985-7181-02]

RIN 0648-XF866

Fisheries of the Exclusive Economic Zone Off Alaska; Inseason Adjustment to the 2018 Bering Sea and Aleutian Islands Pollock, Atka Mackerel, and Pacific Cod Total Allowable Catch Amounts; Correction

AGENCY: National Marine Fisheries Service (NMFS), National Oceanic and Atmospheric Administration (NOAA), Commerce.

ACTION: Temporary rule; inseason adjustment; correction.

SUMMARY: NMFS is correcting a temporary rule that published on December 20, 2017, adjusting the 2018 total allowable catch (TAC) amounts for the Bering Sea and Aleutian Islands (BSAI) pollock, Atka mackerel, and Pacific cod fisheries. One table in the document contained an error.

DATES: Effective January 18, 2018, until the effective date of the final 2018 and 2019 harvest specifications for BSAI groundfish, unless otherwise modified or superseded through publication of a notification in the Federal Register.

FOR FURTHER INFORMATION CONTACT: Steve Whitney, 907-586-7228.

SUPPLEMENTARY INFORMATION:

Need for Correction

NMFS published an inseason adjustment of the 2018 TAC amounts for the BSAI pollock, Atka mackerel, and Pacific cod fisheries (82 FR 60329, December 20, 2017). A table providing information about the 2018 allocations of pollock TACs and community development quota (CDQ) directed fishing allowances (DFA) contained an incorrect amount in the column titled “2018 allocations” and the second row in the Bering Sea subarea titled “CDQ DFA.” This value was specified as 164,434 metric tons (mt), instead of the correct value of 136,434 mt.

NMFS anticipates that this correction will not affect the fishing operations of the CDQ vessels that are subject to these DFAs. This is because of the seasonal allocations for the Bering Sea subarea CDQ DFAs are correctly specified.

Correction

In FR Doc. 2017-27428, published on December 20, 2017 (82 FR 60329), the following correction is made to Table 5:

On page 60330, in Table 5, column 2 is corrected to incorporate the correct amount for the Bering Sea subarea CDQ pollock DFA.

Table 5 is corrected and reprinted in its entirety to read as follows:

Table 5—Final 2018 Allocations of Pollock TACS to the Directed Pollock Fisheries and to the CDQ Directed Fishing Allowances (DFA) ¹
[Amounts are in metric tons]
Area and sector | 2018 Allocations | 2018 A season ¹: A season DFA | 2018 A season ¹: SCA harvest limit ² | 2018 B season ¹: B season DFA
Bering Sea subarea TAC ¹ | 1,364,341 | n/a | n/a | n/a
CDQ DFA | 136,434 | 61,395 | 38,202 | 75,039
ICA ¹ | 47,888 | n/a | n/a | n/a
Total Bering Sea non-CDQ | 1,180,019 | 531,008 | 330,405 | 649,010
DFA
AFA Inshore | 590,009 | 265,504 | 165,203 | 324,505
AFA Catcher/Processors ³ | 472,007 | 212,403 | 132,162 | 259,604
Catch by C/Ps | 431,887 | 194,349 | n/a | 237,538
Catch by CVs ³ | 40,121 | 18,054 | n/a | 22,066
Unlisted C/P Limit ⁴ | 2,360 | 1,062 | n/a | 1,298
AFA Motherships | 118,002 | 53,101 | 33,041 | 64,901
Excessive Harvesting Limit ⁵ | 206,503 | n/a | n/a | n/a
Excessive Processing Limit ⁶ | 354,006 | n/a | n/a | n/a
Aleutian Islands subarea ABC | 40,788 | n/a | n/a | n/a
Aleutian Islands subarea TAC ¹ | 19,000 | n/a | n/a | n/a
CDQ DFA | 1,900 | 760 | n/a | 1,140
ICA | 2,400 | 1,200 | n/a | 1,200
Aleut Corporation | 14,700 | 14,355 | n/a | 345
Area harvest limit ⁷ | n/a | n/a | n/a | n/a
541 | 12,236 | n/a | n/a | n/a
542 | 6,118 | n/a | n/a | n/a
543 | 2,039 | n/a | n/a | n/a
Bogoslof District ICA ⁸ | 450 | n/a | n/a | n/a
¹ Pursuant to § 679.20(a)(5)(i)(A), the Bering Sea subarea pollock, after subtracting the CDQ DFA (10 percent) and the ICA (3.9 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the annual Aleutian Islands pollock TAC, after subtracting first for the CDQ directed fishing allowance (10 percent) and second for the ICA (2,400 mt), is allocated to the Aleut Corporation for a pollock directed fishery. In the Aleutian Islands subarea, the A season is allocated up to 40 percent of the ABC and the B season is allocated the remainder of the pollock directed fishery.
² In the Bering Sea subarea, pursuant to § 679.20(a)(5)(i)(C), no more than 28 percent of each sector's annual DFA may be taken from the SCA before noon, April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(i)(B), the Bogoslof District is closed to directed fishing for pollock. The amounts specified are for ICA only and are not apportioned by season or sector.
Note: Seasonal or sector apportionments may not total precisely due to rounding.

Classification

The Assistant Administrator for Fisheries, NOAA (AA), finds good cause to waive the requirement to provide prior notice and opportunity for public comment pursuant to the authority set forth at 5 U.S.C. 553(b)(B) as such requirement is impracticable and contrary to the public interest. This correcting amendment makes changes to correct the amount of Bering Sea subarea CDQ pollock DFA in Table 5, as described above, and does not change operating practices in the fisheries. If this correction is delayed to allow for notice and comment, it would result in confusion for participants in the fisheries. Therefore, in order to avoid any negative consequences that could result from this error, the AA finds good cause to waive the requirement to provide prior notice and opportunity for public comment.

The AA also finds good cause to waive the 30-day delay in the effective date of this action under 5 U.S.C. 553(d)(3). This correcting amendment makes only a minor change to correct the amount of Bering Sea subarea CDQ pollock DFA in Table 5, and does not change operating practices in the fisheries. This correction would also avoid any confusion for participants in the fisheries. For these reasons, the AA finds good cause to waive the 30-day delay in the effective date of this action.

Authority: 16 U.S.C. 1801 et seq.

Dated: January 12, 2018.
Emily H. Menashes,
Acting Director, Office of Sustainable Fisheries, National Marine Fisheries Service.

[FR Doc. 2018-00789 Filed 1-17-18; 8:45 am]

BILLING CODE 3510-22-P